DEPARTMENT OF ENERGY

Federal Energy Regulatory Commission

Combined Notice of Filings #1

Take notice that the Commission received the following electric corporate filings:

Docket Numbers: EC19-54-000

Applicants: FPL Energy New York, LLC, FPL ENERGY ROCKAWAY PEAKING FACILITIES, LLC, Bayswater Peaking Facility, LLC, Jamaica Bay Peaking Facility, LLC, MPH Rockaway Peakers, LLC.

Description: Application for Authorization Under Section 203 of the Federal Power Act, et al. of FPL Energy New York, LLC, et al.

Filed Date: 2/8/19.

Accession Number: 20190208-5181.

Comments Due: 5 p.m. ET 3/1/19.

Take notice that the Commission received the following electric rate filings:

Docket Numbers: ER10-3285-002; ER10-3181 003;ER17-177 001.

Applicants: UGI Utilities Inc., UGI Development Company, UGI Energy Services, LLC.

Description: Errata to October 31, 2018 Notice of Non-Material Change in Status of the UGI MBR Companies.

Filed Date: 2/11/19.

Accession Number: 20190211-5197.

Comments Due: 5 p.m. ET 3/4/19.

Docket Numbers: ER11-2774-003.

Applicants: Virginia Electric and Power Company, Dominion Energy Generation Marketing, Inc., Dominion Energy Nuclear Connecticut, Inc., NedPower Mount Storm, LLC, Fowler Ridge Wind Farm LLC, Dominion Bridgeport Fuel Cell, LLC, South Carolina Electric & Gas Company.

Description: Notice of Non-Material Change in Status of Dominion Resources Services, Inc., on behalf of Virginia Electric and Power Company, et al.

Filed Date: 2/8/19.

Accession Number: 20190208-5175.

Comments Due: 5 p.m. ET 3/1/19.

Docket Numbers: ER12-203-003.

Applicants: Virginia Electric and Power Company, Dominion Energy Generation Marketing, Inc., Dominion Energy Nuclear Connecticut, Inc., NedPower Mount Storm, LLC, Fowler Ridge Wind Farm LLC, Dominion Bridgeport Fuel Cell, LLC, South Carolina Electric & Gas Company.

Description: Notice of Non-Material Change in Status of Dominion Resources Services, Inc., on behalf of Virginia Electric and Power Company, et al.

Filed Date: 2/8/19.

Accession Number: 20190208-5174.

Comments Due: 5 p.m. ET 3/1/19.

Docket Numbers: ER19-1030-000.

Applicants: Masspower, LLC.

Description: § 205(d) Rate Filing: Notice of succession to be effective 2/12/2019.

Filed Date: 2/11/19.

Accession Number: 20190211-5158.

Comments Due: 5 p.m. ET 3/4/19.

Docket Numbers: ER19-1031-000.

Applicants: South Shore Energy, LLC, Dairyland Power Cooperative.

Description: Request for Expedited One-Time Limited Waiver of South Shore Energy, LLC, et al.

Filed Date: 2/8/19.

Accession Number: 20190208-5160.

Comments Due: 5 p.m. ET 3/1/19.

Docket Numbers: ER19-1032-000.

Applicants: Central Maine Power Company.

Description: Notice of Cancellation of Tariff Schedule W-1 of Central Maine Power Company.

Filed Date: 2/8/19.

Accession Number: 20190208-5163.

Comments Due: 5 p.m. ET 3/1/19.

Docket Numbers: ER19-1033-000.

Applicants: Midcontinent Independent System Operator, Inc.

Description: § 205(d) Rate Filing: 2019-02-12_SA 1710 Certificate of Concurrence AEP-Duke Energy IA to be effective 12/12/2018.

Filed Date: 2/12/19.

Accession Number: 20190212-5029.

Comments Due: 5 p.m. ET 3/5/19.

Docket Numbers: ER19-1034-000.

Applicants: Midcontinent Independent System Operator, Inc.

Description: § 205(d) Rate Filing: 2019-02-12_Termination of SA 3101 GIA and SA 3102 MPFCA to be effective 3/3/2019.

Filed Date: 2/12/19.

Accession Number: 20190212-5031.

Comments Due: 5 p.m. ET 3/5/19.

Docket Numbers: ER19-1035-000.

Applicants: Midcontinent Independent System Operator, Inc.

Description: § 205(d) Rate Filing: 2019-02-12_SA 3045 Ida Grove-MEC 1st Rev GIA (J412) to be effective 1/29/2019.

Filed Date: 2/12/19.

Accession Number: 20190212-5032.

Comments Due: 5 p.m. ET 3/5/19.

Take notice that the Commission received the following electric reliability filings.

Docket Numbers: RD18-3-000.

Applicants: North American Electric Reliability Corporation, Western Electricity Coordinating Council.

Description: Amendment to the Joint Petition of the North American Electric Reliability Corporation and Western Electricity Coordinating Council for the Approval of Retirement of Regional Reliability Standard PRC-004-WECC-2.

Filed Date: 2/11/19.

Accession Number: 20190211-5190.

Comments Due: 5 p.m. ET 3/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2019.
Nathaniel J. Davis, Sr.,
Deputy Secretary.

[FR Doc. 2019-02635 Filed 2-15-19; 8:45 am]

BILLING CODE 6717-01-P